DEPARTMENT OF THE INTERIOR

Bureau of Land Management

[ID-957-1420-BJ]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

The plat representing the dependent resurvey of a portion of the north boundary and subdivisional lines, and the subdivision of sections 2, 3, 10, 23 and 26, in T. 8 S., R.36 E., Boise Meridian, Idaho, Group Number 1119, was accepted April 3, 2008.

The plat representing the dependent resurvey of portions of the Fort Hall Correction Line (south boundary), east boundary, and subdivisional lines, and the subdivision of section 25, T. 9 S., R. 37 E., Boise Meridian, Idaho, Group Number 1162, was accepted May 2, 2008.

The plat constituting the entire survey record of the dependent resurvey of portions of the south boundary and subdivisional lines, and the subdivision of section 31, T. 9 S., R. 38 E., Boise Meridian, Idaho, Group Number 1162, was accepted May 2, 2008.

The plat representing the dependent resurvey of portions of the east boundary and subdivisional lines, and the subdivision of sections 1, 12, and 24, T. 10 S., R. 37 E., Boise Meridian, Idaho, Group Number 1162, was accepted May 2, 2008.

The plat representing the dependent resurvey of a portion of the subdivisional lines, and the subdivision of sections 6, 7, 18, and 19, T. 10 S., R. 38 E., Boise Meridian, Idaho, Group Number 1162, was accepted May 2, 2008.

The plat representing the dependent resurvey of portions of the east boundary and subdivisional lines, and the corrective dependent resurvey of a portion of the subdivisional lines and the subdivision of section 23, and the subdivision of sections 13 and 24, the survey of a portion of the 2005-2008 meanders of the right bank of the Salmon River in section 24, and certain metes-and-bounds surveys in sections 13, 23, and 24, T. 15 N., R. 19 E., and the dependent resurvey of portions of the subdivisional lines, and the original 1911 right bank meanders of the Salmon River in sections 17 and 18, and the subdivision of sections 7, 17, and 18, the survey of the 2005-2008 meanders of the Salmon River in sections 7, 17, and 18, the survey of certain 2005-2008 partition lines in section 17, and the metes-and-bounds survey of lots 10 and 11 in section 18, T. 15 N., R. 20 E., of the Boise Meridian, Idaho, Group Number 1205, was accepted May 9, 2008. The supplemental plat prepared to correct certain erroneous depictions of the Snake River Birds of Prey National Conservation Area, T. 1 N., R. 2 E., Boise Meridian, Idaho, was accepted May 9, 2008.

The plat representing the dependent resurvey of portions of the north boundary, subdivisional lines, and boundaries of certain mineral surveys, T. 5 S., R. 3 W., of the Boise Meridian, Idaho, Group Number 1191, was accepted May 16, 2008.

The plat representing the dependent resurvey of a portion of the Third Standard Parallel North (south boundary) and subdivisional lines, and the subdivision of section 35, in T. 13 N., R. 38 E., Boise Meridian, Idaho, Group Number 1224, was accepted May 29, 2008.

The plat constituting the entire survey record of the dependent resurvey of a portion of the subdivisional lines and the subdivision of section 9, T. 2 S., R. 15 E., Boise Meridian, Idaho, Group Number 1263, was accepted June 27, 2008.

This survey was executed at the request of the U.S.D.A., Forest Service, to meet certain administrative and management purposes. The supplemental plat prepared to correct certain erroneously lotted areas as depicted on the plat accepted December 12, 1990, section 15, T. 54 N., R. 1 W., Boise Meridian, Idaho.

Dated: July 3, 2008.
Stanley G. French,
Chief Cadastral Surveyor for Idaho.

[FR Doc. E8-17069 Filed 7-24-08; 8:45 am]

BILLING CODE 4310-GG-P